DEPARTMENT OF THE INTERIOR

Bureau of Land Management

[AA-6978-E; AA-6978-F; 20X.LLAK944000.L14100000.HY0000]

Alaska Native Claims Selection

AGENCY: Bureau of Land Management, Interior.

ACTION: Notice of decision approving lands for conveyance.

SUMMARY: The Bureau of Land Management (BLM) hereby provides constructive notice that it will issue an appealable decision approving conveyance of the surface estate in certain lands to Kootznoowoo Incorporated (Kootznoowoo), for the Native village of Angoon, pursuant to the Alaska Native Claims Settlement Act of 1971 (ANCSA) and the Alaska National Interest Lands Conservation Act of 1980 (ANILCA). As provided by ANILCA, the BLM will convey the subsurface estate in a portion of the same lands to Sealaska Corporation when the BLM conveys the surface estate to Kootznoowoo.

DATES: Any party claiming a property interest in the lands affected by the decision may appeal the decision in accordance with the requirements of 43 CFR part 4 within the time limits set out in the SUPPLEMENTARY INFORMATION section.

ADDRESSES: You may obtain a copy of the decision from the Bureau of Land Management, Alaska State Office, 222 West Seventh Avenue, #13, Anchorage, AK 99513-7504.

FOR FURTHER INFORMATION CONTACT: Chelsea Kreiner, BLM Alaska State Office, 907-271-4205, or ckreiner@blm.gov. The BLM Alaska State Office may also be contacted via Telecommunications Device for the Deaf (TDD) through the Federal Relay Service at 1-800-877-8339. The relay service is available 24 hours a day, 7 days a week, to leave a message or question with the BLM. The BLM will reply during normal business hours.

SUPPLEMENTARY INFORMATION: As required by 43 CFR 2650.7(d), notice is hereby given that the BLM will issue an appealable decision to Kootznoowoo. The decision approves conveyance of the surface estate in certain lands pursuant to ANCSA (43 U.S.C. 1601, et seq.), and Secs. 506(a)(4) and (5) of ANILCA (94 Stat. 2408). As provided by ANILCA and as set out below, a portion of the subsurface estate in the same lands will be conveyed to Sealaska Corporation when the surface estate is conveyed to Kootznoowoo. The lands are located in the vicinity of Chichagof Island and Prince of Wales Island, Alaska, and are described as:

Lands on Chichagof Island To Be Conveyed Pursuant to Sec. 506(a)(4) of ANILCA Surface to Kootznoowoo; Subsurface Retained by United States

U.S. Survey No. 14075, Alaska.

Containing 19.99 acres.

Lands on Prince of Wales Island To Be Conveyed Pursuant to Sec. 506(a)(5) of ANILCA Surface to Kootznoowoo; Subsurface to Sealaska Corporation

U.S. Survey No. 14083, Alaska.

Containing 61.03 acres.

Copper River Meridian, Alaska

T. 77 S., R. 87 E.,

Secs. 11, 12, 14, and 24.

Containing approximately 8 acres.

T. 77 S., R. 88 E.,

Sec. 36.

Containing approximately 4 acres.

T. 77 S., R. 89 E.,

Sec. 32.

Containing approximately 1 acre.

Aggregating approximately 94 acres.

The decision addresses public access easements, if any, to be reserved to the United States pursuant to Sec. 17(b) of ANCSA (43 U.S.C. 1616(b)), and Sec. 506(a) of ANILCA (94 Stat. 2408), in the lands described above.

The BLM will also publish notice of the decision once a week for four consecutive weeks in the Juneau Empire and the Ketchikan Daily News newspapers.

Any party claiming a property interest in the lands affected by the decision may appeal the decision in accordance with the requirements of 43 CFR part 4 within the following time limits:

1. Unknown parties, parties unable to be located after reasonable efforts have been expended to locate, parties who fail or refuse to sign their return receipt, and parties who receive a copy of the decision by regular mail which is not certified, return receipt requested, shall have until April 20, 2020 to file an appeal.

2. Parties receiving service of the decision by certified mail shall have 30 days from the date of receipt to file an appeal.

Parties who do not file an appeal in accordance with the requirements of 43 CFR part 4 shall be deemed to have waived their rights. Notices of appeal transmitted by facsimile will not be accepted as timely filed.

Chelsea Kreiner,
Land Law Examiner, Adjudication Section.

[FR Doc. 2020-05955 Filed 3-19-20; 8:45 am]

BILLING CODE 4310-JA-P